FEDERAL COMMUNICATIONS COMMISSION

Notice of Public Information Collection(s) Being Reviewed by the Federal Communications Commission

November 20, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 4, 2002. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0262.

Title: Section 90.179, Shared Use of Radio Stations.

Form No.: N/A.

Type of Review: Extension of a currently approved collection.

Respondents: Business or other for-profit, not-for-profit institutions, state, local or tribal government.

Number of Respondents: 41,000.

Estimated Time Per Response: .75 hours.

Frequency of Response: Recordkeeping requirement.

Total Annual Burden: 30,750 hours.

Total Annual Cost: N/A.

Needs and Uses: The Commission has been directed by the United States Congress, in the Balanced Budget Act of 1997, to dedicate 2.4 megahertz of electromagnetic spectrum in the 746-806 MHz band for public safety services. The First Report and Order and Third Notice of Proposed Rulemaking in WT Docket No. 96-86 amended service rules to allow entities applying to the Commission for license to share the radio station on a non-profit cost sharing basis. Section 90.179 requires that Part 90 licensees that share use of their private land mobile radio facility on a non-profit, cost-shared basis keep a written sharing agreement as part of the station records. Regardless of the method of sharing, an up-to-date list of persons who are sharing the station and the basis of their eligibility under Part 90 must be maintained. This requirement is necessary to identify users of the systems should interference problems develop. This information is used by the Commission to investigate interference complaints and resolve interference and operational complaints that may occur among the users.

OMB Control No.: 3060-0986.

Title: Federal-State Joint Board on Universal Service—Plan for Reforming the Rural Universal Service Support Mechanism, CC Docket No. 96-45.

Form No.: N/A.

Type of Review: Extension of a currently approved collection.

Respondents: Business or other for-profit, state, local or tribal government.

Number of Respondents: 1,300 respondents; 5,770 responses.

Estimated Time Per Response: .81 hours per response (avg.).

Frequency of Response: On occasion, quarterly, annual, and one-time reporting requirements; third party disclosure requirement.

Total Annual Burden: 5,770 hours.

Total Annual Cost: N/A.

Needs and Uses: On May 23, 2001, the Commission adopted rules for determining high-cost universal service support for rural telephone companies for the next five years based upon proposals made by the Rural Task Force. The Commission also addressed certain proposals made by the Multi-Association Group (MAG) for reforming universal services applicable to rural carriers. The information will be used to determine whether and to what extent rural telecommunications carriers providing the data are eligible to receive universal service support.

Federal Communications Commission.
Magalie Roman Salas,
Secretary.

[FR Doc. 01-30087 Filed 12-4-01; 8:45 am]

BILLING CODE 6712-01-P